DEPARTMENT OF ENERGY

Federal Energy Regulatory Commission

[Docket Nos. CP07-44-004; CP07-45-003]

Southeast Supply Header, LLC; Notice of Third Amendment Application

July 22, 2008.

On July 18, 2008, Southeast Supply Header, LLC (SESH) filed an application requesting an amendment to the certificate of public convenience and necessity issued on September 20, 2007, in Docket Nos. CP07-44-000 and CP07-45-000 pursuant to section 7(c) of the Natural Gas Act, as amended, and section 157 Subpart A of the Federal Energy Regulatory Commission's (Commission) regulations. Specifically, SESH requests approval for increased rates. SESH requests that the Commission issue a final order granting it all necessary authorizations by September 1, 2008.

Any initial question regarding this application should be directed to Brian D. O'Neill, at Dewey & LeBoeuf LLP, 1101 New York Avenue, NW., Suite 1100, Washington, DC 20005-4213 or by calling 202-346-8000.

Any person desiring to intervene or to protest in the above proceeding must file in accordance with Rules 211 and 214 of the Commission's Rules of Practice and Procedure (18 CFR 385.211 and 385.214) on or before 5 p.m. (EST) on the specified comment date. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time August 4, 2008.

Kimberly D. Bose,
Secretary.

[FR Doc. E8-17290 Filed 7-28-08; 8:45 am]

BILLING CODE 6717-01-P